DEPARTMENT OF LABOR

Office of the Secretary

[Secretary's Order 8-2009]

Delegation of Authorities and Assignment of Responsibilities to the Director, Office of Labor-Management Standards

1. Purpose. To delegate authorities and assign responsibilities to the Director, Office of Labor-Management Standards.

2. Authorities. This Order is issued under the authority of 5 U.S.C. 301 (Departmental Regulations); 29 U.S.C. 551 (Establishment of Department; Secretary; Seal); Reorganization Plan No. 6 1950 (5 U.S.C. App. 1 Reorg. Plan 6 1950); and the authorities cited in Section 5 of this Order.

3. Directives Affected. Secretary's Order 1-2008 (Employment Standards) is hereby canceled. Secretary's Order 9-75 is superseded to the extent that it is inconsistent with Section 7 of this Order. All other Secretary's Orders and DOL directives (including policies and guidance) which reference Secretary's Orders 1-2008 or the Employment Standards Administration are amended to refer to this Order and/or Secretary's Orders governing the Office of Workers' Compensation Programs, Office of Federal Contract Compliance Programs, or the Wage and Hour Division, as appropriate.

4. Background. This Order is occasioned by the November 8, 2009 dissolution of the Employment Standards Administration (ESA) into its four constituent components: Wage and Hour Division; Office of Federal Contract Compliance Programs; Office of Workers' Compensation Programs; and Office of Labor-Management Standards. This Order cancels Secretary's Order 1-2008 and constitutes the Secretary's Order devolving certain authorities and responsibilities of ESA to the Office of Labor-Management Standards (OLMS). Specifically, this Order delegates authorities and assigns responsibilities to the Director, OLMS. The authorities and responsibilities specified below are consistent with the ESA redelegations and distributions of authorities and responsibilities to OLMS in effect at the time of this dissolution.

5. Delegation of Authority and Assignment of Responsibilities:

A. The Director, Office of Labor-Management Standards is hereby delegated authority and assigned responsibility, except as hereinafter provided, for carrying out the employment standards, labor standards, and labor-management standards policies, programs, and activities of the Department of Labor, including those functions to be performed by the Secretary of Labor under the designated provisions of the following statutes:

(1) The Labor-Management Reporting and Disclosure Act of 1959, as amended, 29 U.S.C. 401 et seq. If, in the course of investigations under the Labor-Management Reporting and Disclosure Act, there appear to be indications of organized crime and labor racketeering, the Director of the Office of Labor-Management Standards shall promptly notify the Inspector General, who also has statutory authority to investigate such issues. The Inspector General shall have the power to assume the lead in further investigative activities arising from such case with respect to issues involving organized crime and labor racketeering.

(2) Section 701 (Standards of Conduct for Labor Organizations) of the Civil Service Reform Act of 1978, 5 U.S.C. 7120; Section 1017 of the Foreign Service Act of 1980, 22 U.S.C. 4117; Section 220(a)(1) of the Congressional Accountability Act of 1995, 2 U.S.C. 1351(a)(1); and the regulations pertaining to such sections at 29 CFR Parts 457-459.

(3) Section 1209 of the Postal Reorganization Act of 1970, 39 U.S.C. 1209.

(4) The employee protection provisions of the Federal Transit law, as codified at 49 U.S.C. 5333(b), and related provisions.

(5) The employee protection provisions certified under Section 405(a), (b), (c), and (e) of the Rail Passenger Service Act of 1970, 45 U.S.C. 565(a), (b), (c), and (e).

(6) Executive Order 13496, (“the Notification of Employee Rights Under Federal Labor Laws”) of January 30, 2009.

(7) Section 211(a) of the Labor Management Relations Act, 1947, 29 U.S.C. 181(a) (“Compilation of Collective Bargaining Agreements, etc.; Use of Data”).

(8) Such additional Federal acts that from time to time may assign to the Secretary or the Department duties and responsibilities similar to those listed under subparagraphs (1)-(7) of this paragraph, as directed by the Secretary.

B. The Solicitor of Labor is delegated authority and assigned responsibility for providing legal advice and assistance to all officers of the Department relating to the administration of the statutory provisions, regulations, and Executive Orders listed above. The bringing of legal proceedings under those authorities, the representation of the Secretary and/or other officials of the Department of Labor, and the determination of whether such proceedings or representations are appropriate in a given case, are delegated exclusively to the Solicitor.

6. Reservation of Authority and Responsibility.

A. The submission of reports and recommendations to the President and the Congress concerning the administration of the statutory provisions and Executive Orders listed above is reserved to the Secretary.

B. Nothing in this Order shall limit or modify the delegation of authority and assignment of responsibility to the Administrative Review Board by Secretary's Order 1-2002.

C. Except as expressly provided, nothing in this Order shall limit or modify the provisions of any other Order, including Secretary's Order 4-2006 (Office of Inspector General).

7. Redelegation of Authority. Except as otherwise provided by law, all of the authorities delegated in this Order may be redelegated.

8. Effective Date. This order shall become effective on November 8, 2009.

Dated: November 6, 2009.
Hilda L. Solis,
Secretary of Labor.

[FR Doc. E9-27338 Filed 11-12-09; 8:45 am]

BILLING CODE 4510-23-P